DEPARTMENT OF TRANSPORTATION

Federal Motor Carrier Safety Administration

[Docket No. FMCSA-2024-0165]

Agency Information Collection Activities; Revision of an Approved Information Collection: Financial Responsibility Motor Carriers, Freight Forwarders, and Brokers

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. The purpose of this ICR, titled, “Financial Responsibility Motor Carriers, Freight Forwarders, and Brokers,” is to provide registered motor carriers, property brokers, and freight forwarders a means of meeting financial responsibility filing requirements. This ICR sets forth the financial responsibility documentation requirements for motor carriers, freight forwarders, and brokers as a result of Agency jurisdictional statutes. The revision of three forms (BMC-36, BMC-84, and BMC-85) contained in this ICR is necessary due to the implementation of the Broker and Freight Forwarder Financial Responsibility Final Rule.

DATES: Comments on this notice must be received on or before September 30, 2024.

ADDRESSES: You may submit comments identified by Docket Number FMCSA-2024-0165 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC, 20590-0001 between 9 a.m. and 5 p.m. ET, Monday through Friday, except Federal holidays. To be sure someone is there to help you, please call (202) 366-9317 or (202) 366-9826 before visiting Dockets Operations.

• Fax: 1-202-493-2251.

To avoid duplication, please use only one of these four methods. See the “Public Participation and Request for Comments” portion of the SUPPLEMENTARY INFORMATION section for instructions on submitting comments.

FOR FURTHER INFORMATION CONTACT: Ana Alvarez, Financial Analyst, Office of Registration, Financial Responsibility Filings Division, FMCSA, West Building 6th Floor, 1200 New Jersey Avenue SE, Washington, DC 20590; (202) 366-0401; ana.alvarez@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2024-0165), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2024-0165/document, click on this notice, click “Comment,” and type your comment into the text box on the following screen.

If you submit your comments by mail or hand delivery, submit them in an unbound format, no larger than 8½ by 11 inches, suitable for copying and electronic filing.

Comments received after the comment closing date will be included in the docket and will be considered to the extent practicable.

Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Background

The Secretary of Transportation (Secretary) is authorized to register for-hire motor carriers of property and passengers under the provisions of 49 U.S.C. 13902, surface freight forwarders under the provisions of 49 U.S.C. 13903, and property brokers under the provisions of 49 U.S.C. 13904. These persons may conduct transportation services only if they are registered pursuant to 49 U.S.C. 13901. The Secretary has delegated authority pertaining to these registration requirements to the FMCSA (49 CFR 1.87) and the regulations implementing these requirements may be found at 49 CFR part 387. The registration remains valid only as long as these transportation entities maintain, on file with FMCSA, evidence of the required levels of financial responsibility pursuant to 49 U.S.C. 13906. FMCSA regulations governing the financial responsibility requirements for these entities are found at 49 CFR part 387. The information collected from these forms are summarized and displayed in the Licensing and Information system.

Forms for Endorsements, Certificates of Insurance and Other Evidence of Bodily Injury and Property Damage Liability and Cargo Liability Financial Responsibility

Forms BMC-91 and BMC-91X, titled “Motor Carrier Automobile Bodily Injury and Property Damage Liability Certificate of Insurance,” and Form BMC-82, titled “Motor Carrier Bodily Injury Liability and Property Damage Liability Surety Bond Under 49 U.S.C. 13906,” provide evidence of the required coverage for bodily injury and property damage (BI & PD) liability. A Form BMC-91X filing is required when a carrier's insurance is provided by multiple companies instead of just one. Form BMC-34, titled “Household Goods Motor Carrier Cargo Liability Certificate of Insurance,” and Form BMC-83, titled “Household Goods Motor Carrier Cargo Liability Surety Bond Under 49 U.S.C. 13906,” establish a carrier's compliance with the Agency's cargo liability requirements. Only household goods (HHG) motor carriers are required to file evidence of cargo insurance with FMCSA (§ 387.303(c)). Form BMC-90, titled “Endorsement for Motor Carrier Policies of Insurance for Automobile Bodily Injury and Property Damage Liability Under Section 13906, Title 49 of the United States Code,” and Form BMC-32, titled “Endorsement for Motor Common Carrier Policies of Insurance for Cargo Liability Under 49 U.S.C. 13906,” are executed by the insurance company, attached to BI & PD or cargo liability insurance policy, respectively, and forwarded to the motor carrier or freight forwarder.

Requirement To Obtain Surety Bond or Trust Fund Agreement

Form BMC-84, titled “Broker's or Freight Forwarder's Surety Bond Under 49 U.S.C. 13906,” and Form BMC-85, titled “Broker's or Freight Forwarder's Trust Fund Agreement Under 49 U.S.C. 13906 or Notice of Cancellation of the Agreement,” are filed by brokers or freight forwarders to comply with the requirement that they must have a $75,000 surety bond or trust fund agreement in effect before FMCSA will issue property broker or freight forwarder operating authority registration. Both of these forms are being revised due to the implementation of the Broker and Freight Forwarder Financial Responsibility Final Rule (88 FR 78656, Nov. 16, 2023).

Cancellation of Prior Filings

Form BMC-35, titled “Notice of Cancellation Motor Carrier Insurance under 49 U.S.C. 13906,” Form BMC-36, titled “Motor Carrier's, Broker's or Freight Forward's Surety Bonds under 49 U.S.C. 13906 Notice of Cancellation,” and Form BMC-85, titled “Broker's or Freight Forwarder's Trust Fund Agreement Under 49 U.S.C. 13906 or Notice of Cancellation of the Agreement,” can be used to cancel prior filings. Form BMC-36 is being revised due to the implementation of the Broker and Freight Forwarder Financial Responsibility Final Rule.

Self-Insurance

Motor carriers can also apply to FMCSA to self-insure BI & PD and/or cargo liability in lieu of filing certificates of insurance with the FMCSA, as long as the carrier maintains a satisfactory safety rating (see § 387.309.) Form BMC-40 is the application used by carriers to apply for self-insurance authority.

Title: Financial Responsibility Motor Carriers, Freight Forwarders, and Brokers.

OMB Control Number: 2126-0017.

Type of Request: Revision of a currently approved ICR.

Respondents: For-hire Motor Carriers, Brokers, and Freight Forwarders.

Estimated Number of Respondents: 200,147.

Estimated Time per Response: The estimated average burden per response for Form BMC-40 is 40 hours. The estimated average burden per response for forms BMC-34, 35, 82, 83, 91, and 91X is 10 minutes per form. The estimated average burden per response for revised forms BMC-84, 85, and 36 is 12 minutes per form. In addition, form BMC-32 takes 10 minutes.

Expiration Date: June 30, 2025.

Frequency of Response: Certificates of insurance, surety bonds, and trust fund agreements are required when the transportation entity first registers with FMCSA and then when such coverages are changed or replaced by these entities. Notices of cancellation are required only when such certificates of insurance, surety bonds, and trust fund agreements are cancelled. The BMC-40 is filed only when a carrier seeks approval from FMCSA to self-insure its BI & PD and/or cargo liability coverage.

Estimated Total Annual Burden: 49,786.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.

Thomas P. Keane,
Associate Administrator Office of Research and Registration.

[FR Doc. 2024-16971 Filed 7-31-24; 8:45 am]

BILLING CODE 4910-EX-P